DEPARTMENT OF HEALTH AND HUMAN SERVICES

Centers for Disease Control and Prevention

[Program Announcement 02049]

Johns Hopkins Center for Civilian Biodefense Strategies; Notice of Award of Funds

A. Purpose

The Centers for Disease Control and Prevention (CDC) announces the award of fiscal year (FY) 2002 funds for a grant program for Johns Hopkins Center for Civilian Biodefense Strategies.

The purpose of the program is to continue support for the Johns Hopkins Center for Civilian Biodefense Strategies (JHCCBS) in development of national medical and public health policies and structures to protect the civilian population from bioterrorism. This program addresses the “Healthy People 2010” focus area Immunization and Infectious Diseases.

B. Eligible Applicant

Assistance is provided only to the JHCCBS. No other applications were solicited. The House of Representatives Conference Report accompanying the Departments of Labor, Health and Human Services, and Education and Related Agencies Appropriation Bill Ending September 30, 2002, and For Other Purposes (H.R. 3061, 107th Congress), recognized the Johns Hopkins Center for Civilian Biodefense Strategies unique qualifications for carrying out the activities specified in this grant (H.R. Rep. 107-342).

C. Funds

Approximately $988,987 is being awarded in FY 2002. The award will begin on or about September 1, 2002, and will be made for a 12-month budget period within a project period of one year.

D. Where To Obtain Additional Information

Business management technical assistance may be obtained from: Sharon Robertson, Grants Management Specialist, Procurement and Grants Office, Centers for Disease Control and Prevention, 2920 Brandywine Road, Room 3000, Atlanta, GA 30341-4146, Telephone number 770-488-2748, e-mail address sqr2@cdc.gov.

For program technical assistance, contact: Cyndi Shaffer, Bioterrorism Preparedness and Response, Centers for Disease Control and Prevention, 1600 Clifton Road, Atlanta, GA 30333, Telephone number 404-639-0131, e-mail address csw3@cdc.gov.

Dated: August 6, 2002.
Sandra R. Manning,
Director, Procurement and Grants Office, Centers for Disease Control and Prevention.

[FR Doc. 02-20810 Filed 8-15-02; 8:45 am]

BILLING CODE 4163-18-P